DEPARTMENT OF COMMERCE

Foreign-Trade Zones Board

[B-31-2024]

Foreign-Trade Zone (FTZ) 230, Notification of Proposed Production Activity; Patheon Softgels; (Pharmaceutical Products); High Point, North Carolina

The Piedmont Triad Partnership, grantee of FTZ 230, submitted a notification of proposed production activity to the FTZ Board (the Board) on behalf of Patheon Softgels (Patheon), for Patheon's facility in High Point, North Carolina within Subzone 230C. The notification conforming to the requirements of the Board's regulations (15 CFR 400.22) was received on June 12, 2024.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz. The proposed finished product(s) and material(s)/component(s) would be added to the production authority that the Board previously approved for the operation, as reflected on the Board's website.

The proposed finished products include CU06-1004 and northenindrone acetate (duty-free).

The proposed foreign-status materials/components include: CU06-1004(active pharmaceutical ingredient); titanium dioxide (35%); mono diglycerides; surfactants; glycerol monolinoneate; red iron oxide; yellow iron oxide; medium chain triglycerides; vitamin E; sesame oil nf; linoleoyl polyoxyl-6 glycerides; ethinylestradiol micronized; glycerin and northenindrone acetate (active pharmaceutical ingredient) (duty rate ranges from duty-free to 6.5%).

Public comment is invited from interested parties. Submissions shall be addressed to the Board's Executive Secretary and sent to: ftz@trade.gov. The closing period for their receipt is July 30, 2024.

A copy of the notification will be available for public inspection in the “Online FTZ Information System” section of the Board's website.

For further information, contact Kolade Osho at Kolade.Osho@trade.gov.

Dated: June 13, 2024.
Elizabeth Whiteman,
Executive Secretary.

[FR Doc. 2024-13449 Filed 6-18-24; 8:45 am]

BILLING CODE 3510-DS-P